DEPARTMENT OF AGRICULTURE

Animal and Plant Health Inspection Service

[Docket No. APHIS-2012-0105]

Notice of Availability of a National Animal Health Laboratory Network Reorganization Concept Paper

AGENCY: Animal and Plant Health Inspection Service, USDA.

ACTION: Notice of availability and request for comments.

SUMMARY: We are advising the public that the Animal and Plant Health Inspection Service is making available a concept paper that describes a revised structure for the National Animal Health Laboratory Network (NAHLN) for public review and comment. The NAHLN is a nationally coordinated network and partnership of Federal, State, and university-associated animal health laboratories working to protect animal and public health and the nation's food supply by providing diagnostic testing aimed at detecting biological threats to the nation's food animals. The concept paper we are making available for comment presents a structure we believe will give the NAHLN increased capacity and flexibility to detect and respond to emerging and zoonotic diseases.

DATES: We will consider all comments that we receive on or before June 24, 2013.

ADDRESSES: You may submit comments by either of the following methods:

• Federal eRulemaking Portal: Go to http://www.regulations.gov/#!documentDetail;D=APHIS-2012-0105-0001.

• Postal Mail/Commercial Delivery: Send your comment to Docket No. APHIS-2012-0105, Regulatory Analysis and Development, PPD, APHIS, Station 3A-03.8, 4700 River Road Unit 118, Riverdale, MD 20737-1238.

Supporting documents and any comments we receive on this docket may be viewed at http://www.regulations.gov/#!docketDetail;D=APHIS-2012-0105 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Sarah Tomlinson, Associate Coordinator, National Animal Health Laboratory Network, Veterinary Services, APHIS, 2140 Centre Avenue, Building B, Fort Collins, CO 80526; (970) 494-7152.

SUPPLEMENTARY INFORMATION:

Background

The National Animal Health Laboratory Network (NAHLN) is a nationally coordinated network and partnership of Federal, State, and university-associated animal health laboratories working to protect animal and public health and the nation's food supply by providing diagnostic testing aimed at detecting biological threats to the nation's food animals. Participating NAHLN laboratories are currently designated as Core, Member, Contract, or Adjunct laboratories, depending on their testing capacities, geographical distribution, and degree of specialization. Oversight and administration of the NAHLN is provided by the United States Department of Agriculture (USDA) through the Animal and Plant Health Inspection Service (APHIS). Input and leadership is provided to the NAHLN by a Coordinating Council composed of USDA and State regulatory animal health officials and State employee representatives of NAHLN laboratories.

Since its inception in 2002, the NAHLN has expanded from 12 to over 50 current active participating laboratories, each with varying diagnostic capacities. The need and available technology for diagnostic testing has also changed. Stakeholder feedback indicates that the NAHLN's structure also needs to change in order to expand detection of emerging and zoonotic diseases. To address stakeholder feedback, APHIS is considering certain elements that we believe will ensure continuation of the NAHLN's founding principles while responding to the need for additional flexibility and capacity to address identified gaps in the nation's surveillance, detection, and response capabilities.

The concept paper describes the roles and responsibilities of the NAHLN Coordinating Council and offers a revised structure for the NAHLN that would clarify opportunities for participation by State-based NAHLN laboratories. Inclusion of State-based laboratories in the NAHLN allows for greater proximity to and linkages with producers and veterinarians, which is critical to early detection of foreign animal and emerging diseases. Possible criteria and designations for various levels of participation, including participation by private laboratories, are set forth in the concept paper. Instead of using Core, Member, Contract, or Adjunct laboratory designations, participating laboratories would be designated as Level 1, 2, or 3, Affiliate Laboratory, or Specialty Laboratory, depending on the criteria met by each participating laboratory. To maintain designation, qualifying laboratories would undergo annual reviews to demonstrate adherence to established NAHLN policies and procedures.

APHIS will consider all comments received on the concept paper in determining the appropriate structure and governance for the NAHLN. The concept paper for the revised structure of the NAHLN may be viewed on the Regulations.gov Web site or in our reading room (see ADDRESSES above for a link to Regulations.gov and information on the location and hours of the reading room). You may request paper copies of the document by calling or writing to the person listed under FOR FURTHER INFORMATION CONTACT. Please refer to the title of this document when requesting copies.

Done in Washington, DC, this 18th day of April 2013.
Kevin Shea,
Acting Administrator, Animal and Plant Health Inspection Service.

[FR Doc. 2013-09733 Filed 4-23-13; 8:45 am]

BILLING CODE 3410-34-P